FEDERAL COMMUNICATIONS COMMISSION

Technological Advisory Council Meeting Postponed

AGENCY: Federal Communications Commission.

ACTION: Notice of cancellation of public meeting.

SUMMARY: In accordance with the Federal Advisory Committee Act, 5 U.S.C. App. 2, Public Law 92-463, as amended, this notice advises interested persons that the meeting of the Technological Advisory Council scheduled for March 20, 2002 has been cancelled and will be rescheduled at a later date.

FOR FURTHER INFORMATION CONTACT: Jeffery Goldthorp, jgoldtho@fcc.gov, or 202-418-1096.

Federal Communications Commission.
William F. Caton,
Acting Secretary.

[FR Doc. 02-5674 Filed 3-8-02; 8:45 am]

BILLING CODE 6712-01-P